BUREAU OF CONSUMER FINANCIAL PROTECTION

Proposed Information Collection; Comment Request; Generic Clearance for Research in Development of Disclosure Forms

September 20, 2011.

Summary: The Bureau of Consumer Financial Protection (“CFPB”) will submit a Generic Information Collection Request (Generic ICR): “Generic Clearance for Research in Development of Disclosure Forms” to OMB for review and clearance under the Paperwork Reduction Act of 1995, 44 U.S.C. 3501 et seq. on or after the date of publication of this notice. Copies of the submission(s) may be obtained by calling the agency contact listed below. Comments regarding this information collection should be addressed to the OMB reviewer listed and to the Treasury Department Clearance Officer, Department of the Treasury, Room 11010, 1750 Pennsylvania Avenue, NW., Washington, DC 20220.

DATES: Written comments should be received on or before October 26, 2011 to be assured of consideration.

OMB Number: 1505-XXXX.

Type of Review: Generic Clearance Request.

Title: Generic Clearance for Research in Development of Disclosure Forms.

Abstract: The Dodd-Frank Wall Street Reform and Consumer Protection Act, Public Law 111-203, Title X, requires the CFPB to develop model forms that integrate separate disclosures concerning residential mortgage loans that are required under the Truth in Lending Act (“TILA”) and Real Estate Settlement Procedures Act (“RESPA”). The development of the integrated disclosures will involve qualitative testing of the disclosures given in connection with consummation of the transaction and may involve testing of additional disclosures required by TILA and RESPA during the shopping, application, and origination process. In addition, the CFPB may perform qualitative testing of other model disclosures or materials related to the integrated mortgage loan disclosures, such as instructions for loan originators, tools to assist consumers in understanding the disclosures and loan products and features, other mortgage loan-related disclosures, and of industry usability. Additionally, the CFPB anticipates engaging the public to obtain feedback about the draft integrated mortgage loan disclosures and related materials before formal notice and comment of proposed rules.

The CFPB will collect qualitative data through a variety of collection methods, which may include interviews, focus groups and the Internet, to inform its design and development of the mandated integrated disclosures and their implementation. The information collected through qualitative evaluation methods will inform the disclosure form's design and content, using an iterative process to improve the draft form to make it easier for consumers to use the document to identify the terms of the loan, compare among different loan products, and understand the final terms and costs of the loan transaction. The research will result in recommendations for development of and revisions to disclosure forms and related materials provided to consumers in connection with obtaining mortgage loans. The research activities will be conducted primarily by external contractors employing cognitive psychological testing methods. This approach has been demonstrated to be feasible and valuable by other agencies in developing disclosures and other forms. The planned research activities will be conducted during FY 2012 through FY 2014 with the goal of creating effective disclosures and related materials for consumers.

Affected Public: Individuals, businesses or other for-profit institutions, and not-for-profit institutions.

Estimated Total Annual Burden Hours

Annual Number of Respondents: 34,900.

Average Minutes per Response: 7 minutes.

Annual Burden Hours: 3544.

Comments are invited on: (a) Whether the collection of information shall have practical utility; (b) the accuracy of the agency's estimate of the burden of the collection of information (including hours and costs); (c) ways to enhance the quality, utility, and clarity of the information to be collected; and (d) ways to minimize the burden of the collection of information on respondents, including through the use of automated collection techniques on other forms of information technology. All comments will be a matter of public record.

Agency Contact: Richard Horn, Bureau of Consumer Financial Protection, 1801 L Street, NW., Washington, DC 20036; (202) 435-7406.

OMB Reviewer: Shagufta Ahmed, Office of Management and Budget, New Executive Office Building, Room 10235, Washington, DC 20503. (202) 395-7873.

Robert Dahl,
Treasury PRA Clearance Officer.

[FR Doc. 2011-24578 Filed 9-23-11; 8:45 am]

BILLING CODE P